NUCLEAR REGULATORY COMMISSION

[Docket No. 70-7004]

USEC Inc.'s Proposed American Centrifuge Plant; Notice of Availability of Draft Environmental Impact Statement

AGENCY: Nuclear Regulatory Commission.

ACTION: Notice of availability of Draft Environmental Impact Statement.

SUMMARY: Notice is hereby given that the U.S. Nuclear Regulatory Commission (NRC) is issuing a Draft Environmental Impact Statement (DEIS) for the USEC Inc. (USEC) license application, dated August 23, 2004, for the possession and use of source, byproduct and special nuclear materials at its proposed American Centrifuge Plant (ACP) located near Piketon, Ohio.

The DEIS is being issued as part of the NRC's decision-making process on whether to issue a license to USEC, pursuant to Title 10 of the U.S. Code of Federal Regulations Parts 30, 40, and 70. The scope of activities conducted under the license would include the construction, operation, and decommissioning of the ACP. Specifically, USEC proposes to use gas centrifuge technology to enrich the uranium-235 isotope found in natural uranium up to 10-weight percent. The enriched uranium would be used to manufacture nuclear fuel for commercial nuclear power reactors.

The NRC staff will hold a public meeting to present an overview of the DEIS and to accept oral and written public comments. The meeting date, time and location are listed below:

Meeting Date: Thursday, September 29, 2005.

Meeting Location: Vern Riffe Career Technology Center, 175 Beaver Creek Road, Piketon, OH 45661.

Informal Open House: 6-7 p.m.

DEIS Comment Meeting: 7-9:45 p.m.

Prior to the public meeting, the NRC staff will be available to informally discuss the proposed USEC project and answer questions in an “open house” format. This “open house”' format provides for one-on-one discussions with the NRC staff involved with the preparation of the DEIS. The DEIS meeting officially begins at 7 p.m. and will include: (1) A presentation summarizing the contents of the DEIS and (2) an opportunity for interested government agencies, organizations, and individuals to provide comments on the DEIS. This portion of the meeting will be transcribed by a court reporter. Persons wishing to provide oral comments will be asked to register at the meeting entrance. Individual oral comments may have to be limited by the time available, depending upon the number of persons who register. If special equipment or accommodations are needed to attend or present information at the public meeting, the need should be brought to the attention of Mr. Matthew Blevins no later than September 22, 2005, to provide NRC staff with adequate notice to determine whether the request can be accommodated. Please note that comments do not have to be provided at the public meeting and may be submitted at any time throughout the comment period, through October 24, 2005, as described in the DATES and ADDRESSES sections of this notice.

DATES: The public comment period on the DEIS begins with publication of this notice and continues until October 24, 2005. Written comments should be submitted as described in the ADDRESSES section of this notice. Comments submitted by mail should be postmarked by that date to ensure consideration. Comments received or postmarked after that date will be considered to the extent practical. A public meeting to discuss the DEIS will be held on September 29 as described in the SUMMARY section of this notice.

ADDRESSES: Members of the public are invited and encouraged to submit comments to the Chief, Rules Review and Directives Branch, Mail Stop T6-D59, U.S. Nuclear Regulatory Commission, Washington, DC 20555-0001. Please note Docket No. 70-7004 when submitting comments. Comments will also be accepted by e-mail at NRCREP@nrc.gov or by facsimile to (301) 415-5397, Attention: Mr. Matthew Blevins.

FOR FURTHER INFORMATION CONTACT: For questions related to the safety review or overall licensing of the USEC facility, please contact Mr. Yawar Faraz at at (301) 415-8113. For environmental review questions, please contact Mr. Matthew Blevins at (301) 415-7684.

The DEIS may be accessed on the Internet at: http://www.nrc.gov/reading-rm/doc-collections/nuregs/staff/ by selecting “NUREG-1834.” Additionally, the NRC maintains an Agencywide Documents Access and Management System (ADAMS), which provides text and image files of NRC's public documents. The DEIS and its appendices may also be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by e-mail to PDR@nrc.gov.

The DEIS is also available for inspection at the Commission's Public Document Room, U.S. NRC's Headquarters Building, 11555 Rockville Pike (first floor), Rockville, Maryland. Upon written request and to the extent supplies are available, a single copy of the DEIS can be obtained for a fee by writing to the Office of Information Services, Reproduction and Distribution Services Branch, U.S. Nuclear Regulatory Commission, Washington, DC 20555-0001; by electronic mail at DISTRIBUTION@nrc.gov; or by fax at (301) 415-2289.

A selected group of documents associated with the USEC facility may also be obtained from the Internet on NRC's USEC Web page: http://www.nrc.gov/materials/fuel-cycle-fac/usecfacility.html. In addition, all comments of Federal, State and local agencies, Indian tribes or other interested persons will be made available for public inspection when received.

SUPPLEMENTARY INFORMATION: This DEIS was prepared in response to an application submitted by USEC dated August 23, 2004, for the possession and use of source, byproduct and special nuclear materials at its proposed ACP located near Piketon, Ohio. The DEIS for the proposed ACP was prepared by the NRC staff and its contractor, ICF Consulting, Inc., in compliance with the National Environmental Policy Act (NEPA) and the NRC's regulations for implementing NEPA (10 CFR Part 51).

The DEIS is being issued as part of the NRC's decision-making process on whether to issue a license to USEC, pursuant to Title 10 of the U.S. Code of Federal Regulations Parts 30, 40, and 70. The scope of activities conducted under the license would include the construction, operation, and decommissioning of the ACP. Specifically, USEC proposes to use gas centrifuge technology to enrich the uranium-235 isotope found in natural uranium up to 10-weight percent. The enriched uranium would be used to manufacture nuclear fuel for commercial nuclear power reactors. USEC proposes to locate the ACP in leased portions of the U.S. Department of Energy (DOE) reservation in Piketon, OH. This is the same site as DOE's Portsmouth Gaseous Diffusion Plant. The ACP would consist of refurbished existing facilities and newly constructed facilities, primarily located in the southwestern portion of the central DOE reservation.

The NRC staff published a Notice of Intent to prepare an EIS for the proposed ACP and to conduct a scoping process, in the Federal Register on October 15, 2004 (69 FR 61268). The NRC staff accepted comments through February 1, 2005, and subsequently issued a Scoping Summary Report in April 2005 (ADAMS Accession Number: ML050820008). The DEIS describes the proposed action and alternatives to the proposed action, including the no-action alternative. The NRC staff assesses the impacts of the proposed action and its alternatives on public and occupational health, air quality, water resources, waste management, geology and soils, noise, ecology resources, land use, transportation, historical and cultural resources, visual and scenic resources, socioeconomics, accidents and environmental justice. Additionally, the DEIS analyzes and compares the costs and benefits of the proposed action.

Based on the preliminary evaluation in the DEIS, the NRC environmental review staff has concluded that the proposed action would have small effects on the physical environment and human communities with the exception of: (1) Short-term moderate impacts associated with increases in particulate matter released to the air during the construction phase, (2) short-term moderate impacts related to increased traffic congestion during the construction phase, (3) potential moderate impacts due to transportation accidents, (4) potential moderate impacts from facility operation accidents, (5) moderate impacts associated with a potential operating extension of the DOE depleted uranium tails conversion facility, and (6) moderate employment impacts on the local communities associated with the construction and operation phases.

After weighing the impacts, costs, and benefits of the proposed action and comparing alternatives, the NRC staff, in accordance with 10 CFR 51.71(e), set forth their preliminary recommendation regarding the proposed action. The NRC staff recommend that, unless safety issues mandate otherwise, the action called for is the approval of the proposed action (i.e., issue a license). The DEIS is a preliminary analysis of the environmental impacts of the proposed action and its alternatives. The Final EIS and any decision documentation regarding the proposed action will not be issued until public comments on the DEIS have been received and evaluated. Notice of the availability of the Final EIS will be published in the Federal Register.

The NRC staff in the Division of Fuel Cycle Safety and Safeguards are currently completing the safety review for USEC's license application and is currently scheduled for completion in the Spring of 2006.

Dated at Rockville, Maryland, this 30th day of August, 2005.
For the Nuclear Regulatory Commission.
Scott C. Flanders,
Deputy Director, Environmental and Performance Assessment Directorate, Division of Waste Management and Environmental Protection, Office of Nuclear Material Safety and Safeguards.

[FR Doc. E5-4878 Filed 9-7-05; 8:45 am]

BILLING CODE 7590-01-P